FEDERAL MARITIME COMMISSION

Ocean Transportation Intermediary License; Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

World Way International Inc., 755 Route 83, Suite 215, Bensenville, IL 60106, Officers: Mei Ling Chao, Controller (Qualifying Individual), Edward Chou, President

Millennium Transportation Group, Inc., 1901 E. Lambert Road, Suite 104, LaHabra, CA 90631, Officer: Morris George Lepisto, Jr., President (Qualifying Individual)

West Consolidators Inc., 220 W. Ivy Avenue, Suite 200, Inglewood, CA 90302, Officers: Steve Lok, President (Qualifying Individual), Carlos Villalobos, Vice President

Wingar Logistics Inc., 9690 Telstar Avenue, Suite 207, El Monte, CA 91731, Officer: Alex S. Chia, President (Qualifying Individual)

JDK Logistics Inc., 12 Via Tronido, Rancho Santa Margarita, CA 92688, Officer: Henry C. Ho, President (Qualifying Individual)

Non-Vessel Operating Common Carrier and Ocean Freight Forwarder Transportation Intermediary Applicant

Walker International Transportation LLC, 70 East Sunrise Highway, Suite 604, Valley Stream, NY 11581-1260, Officers: Emmett F. Walker, President (Qualifying Individual), Roger Noll, Vice President

Dated: April 12, 2001.
Bryant L. VanBrakle,
Secretary.

[FR Doc. 01-9528 Filed 4-17-01; 8:45 am]

BILLING CODE 6730-01-P